FEDERAL MARITIME COMMISSION

Notice of Agreements Filed

The Commission hereby gives notice of the filing of the following agreement under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 011426-037.

Title: West Coast of South America Discussion Agreement.

Parties: APL Co. Pte Ltd.; CMA CGM, S.A.; Compania Chilena de Navigacion Interoceanica, S.A.; Compania Sudamericana de Vapores, S.A.; Frontier Liner Services, Inc.; Hamburg-Süd KG; King Ocean Services Limited, Inc.; CP Ships USA LLC; Mediterranean Shipping Company, S.A.; Seaboard Marine Ltd.; South Pacific Shipping Company, Ltd. (d/b/a Ecuadorian Line); and Trinity Shipping Line.

Filing Party: Wayne R. Rohde, Esq.; Sher & Blackwell LLP; 1850 M Street, NW.; Suite 900; Washington, DC 20036.

Synopsis: The amendment makes changes in the manner in which the parties may confer and also clarifies the responsibilities for the payment of any civil penalties.

By order of the Federal Maritime Commission.
Dated: October 7, 2005.
Karen V. Gregory,
Assistant Secretary.

[FR Doc. 05-20522 Filed 10-12-05; 8:45 am]

BILLING CODE 6730-01-P